DEPARTMENT OF THE INTERIOR

Fish and Wildlife Service

Notice of Availability of the Final Recovery Plan for the Zapata bladderpod (Lesquerella thamnophila)

AGENCY: Fish and Wildlife Service, Interior.

ACTION: Notice of document availability.

SUMMARY: The U.S. Fish and Wildlife Service (Service) announces the availability of the Final Recovery Plan for the Zapata bladderpod (Lesquerella thamnophila).

ADDRESSES: Persons wishing to receive the Recovery Plan can obtain a copy from the U.S. Fish and Wildlife Service, Corpus Christi Ecological Services Field Office, c/o Corpus Christi State University, Campus Box 338 (6300 Ocean Dr.), Corpus Christi, Texas, 78412.

FOR FURTHER INFORMATION CONTACT: Field Office Supervisor, Corpus Christi Ecological Services Field Office, at the above address; telephone 361/994-9005, facsimile 361/994-8262.

SUPPLEMENTARY INFORMATION:

Background

The Zapata bladderpod (Lesquerella thamnophila), a plant of the Brassicaceae family, is listed as endangered with critical habitat. Historically, eleven populations of the plants have been located and described in Texas, and one has been documented from Mexico. Currently, seven of those eleven populations are still known to be extant; four of the populations are located in Starr County, and three in Zapata County. This species is threatened by increased urban development, highway construction, increased oil and gas activities, alteration and conversion of native plant communities to improved pastures, overgrazing, and vulnerability from low population size. The plant may have a more extensive range than what is currently known, as access for surveying on private land has been limited.

This Recovery Plan includes information about the species and provides objectives and actions needed to downlist the species to threatened status. The Recovery Plan identifies specific information gaps that need to be filled in order to develop delisting criteria. Recovery activities designed to achieve reclassification objectives include: Protecting known populations, searching for additional populations, performing outreach activities to educate and obtain assistance from the general public to conserve the species and its habitat, and establishing additional populations through reintroduction in the known range of the species. Binational collaboration between the United States and Mexico for species recovery is recommended. Revision of the Recovery Plan and development of delisting criteria is recommended within five years.

Restoring an endangered or threatened animal or plant to the point where it is again a secure, self-sustaining member of its ecosystem is a primary goal of the Service's endangered species program. To help guide the recovery effort, the Service is working to prepare Recovery Plans for most of the listed species native to the United States. Recovery Plans describe actions considered necessary for conservation of species, establish criteria for downlisting or delisting them, and estimate time and cost for implementing the recovery measures needed.

The U.S. Fish and Wildlife Service is the principal Federal agency responsible for conserving, protecting, and enhancing fish and wildlife and their habitats for the continuing benefit of the American people. The Service manages the 93-million-acre National Wildlife Refuge System comprising more than 500 national wildlife refuges, thousands of small wetlands, and other special management areas. It also operates 66 national fish hatcheries and 78 ecological services field stations. The agency enforces Federal wildlife laws, administers the Endangered Species Act, manages migratory bird populations, restores nationally significant fisheries, conserves and restores wildlife habitat such as wetlands, and helps foreign governments with their conservation efforts. It also oversees the Federal Aid program that distributes hundreds of millions of dollars in excise taxes on fishing and hunting equipment to state wildlife agencies.

Authority: The authority for this action is Section 4(f) of the Endangered Species Act, 16 U.S.C. 1533(f).

Dated: July 26, 2004.
Geoffrey L. Haskett,
Acting Regional Director, Region 2.

[FR Doc. 04-19426 Filed 8-24-04; 8:45 am]

BILLING CODE 4310-55-P